DEPARTMENT OF HEALTH AND HUMAN SERVICES

Administration for Children and Families

[OMB No.: 0970-0207]

Submission for OMB Review; Comment Request

Title: Head Start Grant Application

Description: The Office of Head Start is proposing to renew, with changes, the Head Start Grant Application, which grantees use to provide information that is requested from all Head Start and Early Head Start grantees applying for their annual funding. The application and budget forms are available in the Head Start Enterprise System (HSES), a secure web-based system, which transmits completed applications to Regional and Central Offices. Changes are minor and consist of updated fields and guidance in HSES to accommodate submission of documentation that resulted from changes to the Head Start Program Performance Standards.

Respondents: Head Start and Early Head Start grantees.

Annual Burden Estimates
Instrument | Number of respondents | Number of responses per respondent | Average burden hours per response | Total burden hours
Head Start Grant Application | 2,160 | 1 | 33 | 71,280

Estimated Total Annual Burden Hours: 71,280.

Additional Information: Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary B. Jones,
ACF/OPRE Certifying Officer.

[FR Doc. 2019-05738 Filed 3-25-19; 8:45 am]

BILLING CODE 4184-40-P